DEPARTMENT OF COMMERCE

National Oceanic and Atmospheric Administration

RIN 0648-XD492

Fisheries of the Northeastern United States; Summer Flounder, Scup, and Black Sea Bass Fisheries; Scoping Process

AGENCY: National Marine Fisheries Service (NMFS), National Oceanic and Atmospheric Administration (NOAA), Commerce.

ACTION: Notice of intent to prepare an environmental impact statement (EIS); notice of initiation of scoping process; notice of public scoping meetings; requests for comments.

SUMMARY: In cooperation with NOAA's National Marine Fisheries Service and the Atlantic States Marine Fisheries Commission, the Mid-Atlantic Fishery Management Council announces its intent to prepare an amendment to the Summer Flounder, Scup, and Black Sea Bass Fishery Management Plan and to prepare an Environmental Impact Statement in accordance with the National Environmental Policy Act to analyze the impacts of any proposed management measures. This notice also announces a public process for determining the scope of issues to be addressed and for identifying the significant issues related to summer flounder fisheries in the Greater Atlantic region. This notice is to alert the interested public of the scoping process, the development of the amendment and Environmental Impact Statement, and to provide for public participation in that process.

DATES: Written comments must be received on or before 11:59 p.m., EST, on October 31, 2014. Fourteen public scoping meetings will be held during this comment period. See SUPPLEMENTARY INFORMATION for dates, times, and locations.

ADDRESSES: Written comments may be sent by any of the following methods:

• Email to the following address: nmfs.gar.FlukeAmendment@noaa.gov; Include “Summer Flounder Amendment Scoping Comments” in the subject line;

• Mail or hand deliver to Dr. Christopher M. Moore, Executive Director, Mid-Atlantic Fishery Management Council, 800 North State Street, Suite 201, Dover, Delaware 19901. Mark the outside of the envelope “Summer Flounder Amendment Scoping Comments”; or

• Fax to (302) 674-5399.

• A web form for submitting comments is available on the Council's Web site: http://www.mafmc.org/comments/summer-flounder-amendment.

The scoping document may be obtained from the Council office at the previously provided address, or by request to the Council by telephone (302) 674-2331, or via the Internet at http://www.mafmc.org.

Comments may also be provided verbally at any of the 14 public scoping meetings. See SUPPLEMENTARY INFORMATION for dates, times, and locations.

FOR FURTHER INFORMATION CONTACT: Dr. Christopher M. Moore, Mid-Atlantic Fishery Management Council, 800 North State Street, Suite 201, Dover, DE 19901, (telephone 302-674-2331).

SUPPLEMENTARY INFORMATION:

Background

The Mid-Atlantic Fishery Management Council, in cooperation with the Atlantic States Marine Fisheries Commission, has initiated this action in order to: (1) Perform a comprehensive review of all aspects of the Fishery Management Plan (FMP) related to summer flounder; (2) update the FMP goals and objectives for summer flounder management; and (3) modify management strategies and measures as necessary to achieve those goals and objectives. A number of issues and concerns relative to summer flounder management have been raised by managers, advisors, and other interested stakeholders, and there is significant stakeholder interest in examining and updating many of the management strategies and measures currently in place. In addition, the Council has proposed this action to evaluate the need for management response to changing conditions in the summer flounder fishery. This includes addressing apparent shifts in the distribution and center of biomass for the summer flounder stock (possibly related to the effects of rebuilding and/or climate change), as well as changing social and economic drivers for these fisheries. This action was initiated so that the FMP goals, objectives, and management strategies can be assessed in light of these changing fishery conditions and align better with the current priorities of stakeholders.

At this time, the Council is expected to consider revising or implementing several types of management measures, including, but not limited to:

• No action (i.e., no additional measures would be adopted or revised);

• Revised FMP goals and objectives for summer flounder;

• Revised quota allocation strategies between the commercial and recreational fisheries;

• Commercial summer flounder management measures and strategies, including, but not limited to:

Commercial fishing gear requirements and restrictions, such as mesh requirements, net dimensions, bycatch reduction devices, head and footrope lengths;

○ Minimum fish size requirements;

○ Possession limit and trigger requirements;

○ Time/area closures and exemption programs;

○ Licensing;

○ Fleet capacity/number of permits relative to stock size;

○ Catch monitoring and validation;

○ Commercial quota allocation strategies; and

○ Landings flexibility (regional, coastwide, other).

• Recreational summer flounder management measures and strategies, including, but not limited to:

○ Recreational bag limits, size limits, and seasonal limits;

○ Recreational fishing gear requirements and restrictions;

○ Inter-jurisdictional management processes and strategies (including use of state-by-state or regional conservation equivalency vs. coastwide measures);

○ Management strategies specific to the party/charter (for-hire) recreational fleet;

○ Management strategies specific to private recreational anglers; and

○ Recreational quota allocation strategies (by state, fishing sector, other).

• Measures to address summer flounder discards in the commercial and recreational fisheries;

• Measures to address ecosystem, habitat, bycatch, and protected species issues; and

• Data collection requirements and protocols.

More details on the topics addressed in this notice can be found in the Summer Flounder Amendment Scoping Document (see ADDRESSES) and on the summer flounder amendment page of the Council's Web site at http://www.mafmc.org/actions/summer-flounder-amendment.

The Council will first gather information during the scoping period. This is the first and best opportunity for members of the public to raise concerns related to the scope of issues that will be considered in the amendment. The Council needs your input both to identify management issues and develop effective alternatives. Public comments early in the amendment development process will help the Council address issues of public concern in a thorough and appropriate manner. Comments can be made in writing or during the scoping hearings as described above.

Following the scoping process, the Council will develop a range of management alternatives to be considered and prepare an EIS to analyze the impacts of the management alternatives being considered as required by the National Environmental Policy Act. A draft EIS will be distributed for public review. During the public comment period, which will include public hearings, the public may comment on any aspect of the draft EIS. Following a review of the comments and further development of alternatives, the Council will choose preferred management measures with the Final EIS and submit the Amendment to the Secretary of Commerce for approval and publication of proposed and final rules, both of which have additional comment periods.

Scoping Hearings

Fourteen scoping meetings to facilitate public comment will be held on the following dates and locations:

Date and time | Location
Monday, September 29, 2014, 6:30 p.m | Kingsborough Community College, Building T3, Room 303, Brooklyn, NY 11235.
Monday, September 29, 2014, 6 p.m | Somers Point City Hall, 1 West New Jersey Avenue, Somers Point, NJ 08244.
Tuesday, September 30, 2014, 5:30 p.m | Montauk Library, 871 Montauk Highway, Montauk, NY 11954.
Tuesday, September 30, 2014, 6 p.m | Belmar Municipal Court, 601 Municipal Court, Belmar, NJ 07719.
Wednesday, October 1, 2014, 7 p.m | CT DEEP Marine Headquarters, Boating Education Center (Bldg 3), 333 Ferry Rd, Old Lyme, CT 06371.
Wednesday, October 1, 2014, 6:30 p.m | NYDEC Bureau of Marine Resources, 205 North Belle Mead Road, Suite 1, East Setauket, NY 11733.
Thursday, October 2, 2014, 6 p.m | Ocean Pines Library, 11107 Cathell Rd, Berlin, MD 21811.
Thursday, October 2, 2014, 5 p.m | Bourne Fire Station #3 Meeting Room, 53 Meetinghouse Lane, Sagamore, MA 02561.
Monday, October 6, 2014, 6 p.m | DNREC Auditorium, 89 Kings Hwy, Dover, DE 19901.
Wednesday, October 8, 2014, 6 p.m | University of Rhode Island Bay Campus, Corless Auditorium, South Ferry Rd, Narragansett, RI 02882.
Tuesday, October 14, 2014, 6 p.m | Virginia Marine Resources Commission, 4th Floor Meeting Room, 2600 Washington Avenue, Newport News, VA 23607.
Wednesday, October 15, 2014, 6 p.m | NCDMF Pamlico District Office, 943 Washington Square Mall, Highway 17, Washington, NC 27889.
Tuesday, October 21, 2014, 6 p.m | Washington Marriott at Metro Center, 775 12th St NW., Washington, DC 20005.
Wednesday, October 22, 2014, 6 p.m | Internet webinar, Connection information to be available at http://www.mafmc.org or by contacting the Council (see ADDRESSES above).

Special Accommodations

The scoping hearings are accessible to people with disabilities. Requests for sign language interpretation or other auxiliary aid should be directed to M. Jan Saunders (302-674-2331, ext 251) at least 5 days prior to the meeting date.

Authority: 16 U.S.C. 1801 et seq.

Dated: September 11, 2014.
Emily H. Menashes,
Acting Director, Office of Sustainable Fisheries, National Marine Fisheries Service.

[FR Doc. 2014-22040 Filed 9-15-14; 8:45 am]

BILLING CODE 3510-22-P